DEPARTMENT OF HEALTH AND HUMAN SERVICES

National Institutes of Health

National Institute of Mental Health; Amended Notice of Meeting

Notice is hereby given of a change in the meeting of the National Institute of Mental Health Special Emphasis Panel, February 26, 2004, 11 a.m. to February 26. 2004, 12 p.m., National Institutes of Health, Neuroscience Center, 6001 Executive Boulevard, Rockville, MD, 20852 which was published in the Federal Register on February 23, 2004, 69 FR 8212.

The meeting will be held on April 5, 2004 and the time has been changed to 10 a.m. to 11 a.m. The meeting location remains the same. The meeting is closed to the public.

Dated: March 29, 2004.
LaVerne Y. Stringfield,
Director, Office of Federal Advisory Committee Policy.

[FR Doc. 04-7500 Filed 4-1-04; 8:45 am]

BILLING CODE 4140-01-M